COMMITTEE FOR PURCHASE FROM PEOPLE WHO ARE BLIND OR SEVERELY DISABLED

Procurement List Additions and Deletions

AGENCY: Committee for Purchase From People Who Are Blind or Severely Disabled.

ACTION: Additions to and deletions from the Procurement List.

SUMMARY: This action adds services to the Procurement List that will be provided by nonprofit agencies employing persons who are blind or have other severe disabilities, and deletes services from the Procurement List previously provided by such agencies.

DATES: Effective Date: 6/20/2011.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 3/11/2011 (76 FR 13362-13363) and 3/25/2011 (76 FR 16733-16734), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Mailroom Operation, Internal Revenue Service (IRS), 290 North D Street, San Bernardino, CA

NPAs: ServiceSource, Inc., Alexandria, VA (Prime)

Pacific Coast Community Services, Richmond, CA (Subcontractor)

Contracting Activity: DEPT OF TREAS/INTERNAL REVENUE SERVICE, CONTRACTS & ACQUISITION DIVISION NATIONAL OFFICE, WASHINGTON, DC

Service Type/Location: Base Operations Support Service, Mark Center Campus, Washington Headquarters Services, 4800 Mark Center Drive, Alexandria, VA

NPAs: ServiceSource, Inc., Alexandria, VA (Prime)

CW Resources, Inc., New Britain, CT (Subcontractor)

Able Forces, Inc, Front Royal, VA (Subcontractor)

Contracting Activity: DEPARTMENT OF DEFENSE, ACQUISITION DIRECTORATE, WASHINGTON HEADQUARTERS SERVICES, WASHINGTON, DC

Service Type/Locations: Mail Management Support Service, Official Mail Center Indian Head, 4072 N Jackson Road, Suite 101, Indian Head, MD

Official Mail Center Philadelphia, 1498 Constitution Ave, Building 44, Philadelphia, PA

Official Mail Center Carderock, 9500 MacArthur Boulevard, West Bethesda, MD

NPAs: NewView Oklahoma, Inc., Oklahoma City, OK (Prime)

ServiceSource, Inc., Alexandria, VA (Subcontractor)

Contracting Activity: DEPT OF THE NAVY, FISC NORFOLK, Norfolk, VA

Deletions

On 3/25/2011 (76 FR 16733-16734), the Committee for Purchase From People Who Are Blind or Severely Disabled published notice of proposed deletions from the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 46-48c) in connection with the services deleted from the Procurement List.

End of Certification

Accordingly, the following services are deleted from the Procurement List:

Services

Service Type/Locations: Janitorial/Custodial

U.S. Army Reserve Center: York, SC,

U.S. Army Reserve Center: 515 South Cherry Road, Rock Hill, SC

NPA: York County Mental Retardation and Developmental Disabilities Board, Rock Hill, SC

Contracting Activity: DEPT OF THE ARMY, W40M NATL REGION CONTRACT OFC, WASHINGTON, DC

Barry S. Lineback,
Director, Business Operations.

[FR Doc. 2011-12414 Filed 5-19-11; 8:45 am]

BILLING CODE 6353-01-P